DEPARTMENT OF THE DEFENSE

Office of the Secretary

Notice of Availability for Public Viewing of the Draft Environmental Assessment for the Pulsed Fast Neutron Analysis Cargo Inspection System Test Facility at the Ysleta Port of Entry Commercial Cargo Facility, El Paso, TX

AGENCY: Counterdrug Technology Development Program Office (CTDPO), DoD.

ACTION: Notice of availability.

SUMMARY: The notice announces that a draft Environmental Assessment (EA) regarding potential environmental impacts resulting from the Pulsed Fast Neutron Analysis (PFNA) Cargo Inspection System Test Facility is available for public review. The facility will be constructed at the Ysleta Port of Entry cargo lot in El Paso, Texas. The Counterdrug Technology Development Program Office (CTDPO) will consider comments before issuing a final EA.

DATES: The draft EA will be available for public review for a 30-day period beginning on May 29, 2003. Written comments must be received by June 30, 2003.

ADDRESSES: Written comments may be submitted to the Department of Defense, Counterdrug Technology Development Program Office, Naval Surface Warfare Center, 17320 Dahlgren Road, Dahlgren, Virginia 22448-5100, Attn: Dr. Stephen Haimbach. Copies of the draft EA will be available for viewing at the above address. Copies may also be obtained by telephone request through the following phone number: 540/653-2374, and by accessing the following Internet address: http://www.scainc.biz/EA.

FOR FURTHER INFORMATION CONTACT: Dr. Stephen Haimbach at 540/653-2374 or at PFNAmail@dodcounterdrug.com.

SUPPLEMENTARY INFORMATION:

Background

Introduction

In its counter-terrorism and counter-drug efforts, the Federal government has invested considerable resources into developing technologies for detecting explosives, narcotics or other contraband hidden among the freight imported into the United States. Radiation-based, non-intrusive inspections systems, such as X-ray and gamma ray, have been in use for several years by Federal government agencies. A related technology, called Pulsed Fast Neutron Analysis (PFNA), was developed several years ago for cargo inspection. PFNA is designed to directly and automatically detect and measure the presence of specific materials, such as cocaine or explosives, which may have been hidden within the vehicle. PFNA technology uses pulses of neutrons as the radiation source to non-intrusively examine packages and containers for suspect materials. While PFNA has been successfully demonstrated in a laboratory setting, it has yet to be tested in an operational environment.

The Department of Defense (DoD) in cooperation with the United States Bureau of Customs and Border Protection and the Transportation Security Administration plans to conduct a six-month operational test of a PFNA system at the Ysleta/Zaragosa Border Station in Ysleta, Texas. Ysleta is next to the Rio Grande River just southeast of the city of El Paso. Ysleta was selected as the test location principally because it had space available (no additional land purchase was required) and sufficient commercial traffic.

The test facility will consist of an inspection building (approximately 220 feet by 60 feet) housing the PFNA equipment and several smaller structures for electronic equipment and operators.

Inspection Process

Vehicles will be selected for inspection from the routine stream of commerce and will be directed to the PFNA test facility. The driver will leave the vehicle and wait in a designated area. A self-powered towing machine will slowly pull the unoccupied vehicle through the facility and past the scanning device in the inspection building. Once all safety checks are verified, the vehicle is scanned with the neutrons. The pulsed beam moves up and down while the vehicle slowly passes by to ensure that all of the contents are inspected.

Many of the neutrons pass through the vehicle unaffected and are stopped by the shield walls of the inspection building. Some of the neutrons hit individual atoms, subsequently giving off a gamma ray of a specific frequency that is characteristic of a chemical element. Sensors located along the walls of the corridor detect the quantities for each of the specific frequencies of gamma rays for the short period of time of each pulse of neutrons. The system's electronics and computers compile the gamma ray information to determine the properties of individual material locations within the vehicle. For the chemical makeup of specific explosives and narcotics, the computers automatically alert operators of the presence of these substances. The PFNA system generates three-dimensional images of the target materials on computer monitors to help pinpoint the location of suspect materials for U.S. Customs inspectors.

Radiation Properties

While the neutron generator used in PFNA systems does not contain radioactive material, the neutron production process does produce a trace amount of radioactive material. Specifically, a small amount (less than 1/100th of the levels allowed by the EPA regulations) of the radioisotope tritium (radioactive hydrogen) is a byproduct of the process, which is vented to the atmosphere.

The neutrons produce radioactive isotopes of some of the atoms within the vehicle. This may increase the level of radioactivity of scanned cargo materials. Computer modeling has shown that the level of induced radioactivity is of little consequence to human health. Residual radioactivity measurements will be made during the test to confirm the absence of significant levels of radioactivity.

For safety, personnel are shielded from radiation by staying out of the equipment area during operations. The facility's walls are designed to prevent all but minute amounts of radiation from leaving the area. X-rays and gamma rays are produced both by the fast moving neutrons themselves as they collide with atoms, and the neutron producing equipment. X-rays and gamma rays are both forms of ionizing radiation, which by virtue of their high energy, can convert molecules into charged ions, and pose an increased risk of cancer with excessive exposure. Visible light, infrared light, microwaves, and radio waves are non-ionizing forms of electromagnetic radiation because of their relatively lower energies.

It is believed that the PFNA inspection system is safe, with exposures to radioactive materials and ionizing radiation to the general public and US Customs personnel well below Federal and State standards. The facility design, including radiation shielding, will be designed to ensure that levels of exposure will be statistically indistinguishable from local area background.

Public Review of the Draft Environmental Assessment

Pursuant to the National Environmental Policy Act (NEPA) and the Council on Environmental Quality regulations implementing NEPA (40 Code of Federal Regulations (CFR) Parts 1500-1508), the assessment has been conducted to determine whether the proposed action is a major federal action having significant effects on the environment, which would require preparation of an Environmental Impact Statement (EIS), or whether the impacts of the proposed action (after mitigation) are less than significant, which would result in preparation of a Finding of No Significant Impact (FONSI).

This notice announces a 30-day period for public review of the draft EA and a 30-day period for submitting comments to CTDPO, both periods commencing on the date this document is published in the Federal Register.

Evaluation of Environmental Impact

Significant comments received from the public and agencies during the comment period will be addressed in, and included as an Appendix to, the final EA. Notice of issuance of the final EA will be published in the Federal Register.

Should CTDPO determine, based on comments received and any additional relevant information developed, that the design, construction, and/or operation of PFNA system will not have a significant impact on the environment, CTDPO will prepare a FONSI, notice of which will be published in the Federal Register. Should CTDPO determine that significant environmental impacts exist due to the project, CTDPO will proceed with preparation of an EIS as required under the NEPA, the CEQ Regulations (40 CFR part 1502), and the Department of Defense's environmental policies and procedures.

Public Review and Comments

The draft EA will be available for public review for a period of 30 days beginning on the date this document is published in the Federal Register. The draft EA can be reviewed at the following address: Ysleta Branch of the El Paso Public Library, 9321 Alameda Ave., El Paso, Texas 79907. Printed copies of the draft EA are $50.00 each and may be obtained by telephone request through the following phone number: 410/593-9909, or freely downloaded by accessing the following Internet address: www.scainc.biz/EA.

Comments regarding the draft EA may be submitted as set forth in the ADDRESSES section of this document.

Dated: May 23, 2003.
Patricia L. Toppings,
Alternate OSD Federal Register Liaison Officer, Department of Defense.

[FR Doc. 03-13516 Filed 5-27-03; 10:44 am]

BILLING CODE 5001-08-P